POSTAL RATE COMMISSION

Sunshine Act Meeting

Name of Agency: Postal Rate Commission.

Time and Date: December 12, 2001 at 10 a.m.

Place: Commission conference room, 1333, H Street NW., Suite 300, Washington, DC 20268-0001.

Status: Open.

Matters to be Considered: Election of vice-chairman.

Contact Person For More Information: Stephen L. Sharfman, general counsel Postal Rate Commission, 202-789-6820.

Dated: December 5, 2001.
Steven W. Williams.
Acting Secretary.

[FR Doc. 01-30501 Filed 12-5-01; 4:07 pm]

BILLING CODE 7710-FW-M